DEPARTMENT OF HOMELAND SECURITY

Coast Guard

33 CFR Part 52

[Docket No. USCG-2019-0929]

Board for Correction of Military Records; Technical Amendment

AGENCY: Coast Guard, DHS.

ACTION: Final rule.

SUMMARY: The Board for Correction of Military Records of the Coast Guard (BCMR) is updating its mailing address in the Code of Federal Regulations. On April 29, 2019 the BCMR moved from 245 Murray Lane, Washington, DC 20528 to 2707 Martin Luther King Jr. Avenue SE, Washington, DC 20528. This rule only updates the BCMR's mailing address for submitting an application for correction of a Coast Guard record and does not create or change any substantive requirements.

DATES: This final rule is effective on December 16, 2019.

ADDRESSES: Documents mentioned in this preamble as being available in the docket are part of docket number USCG-2019-0929, which is available at https://www.regulations.gov.

FOR FURTHER INFORMATION CONTACT: For information about this document call or email Julia Andrews, Chair, BCMR, telephone 202-447-4099, email at cgbcmr@hq.dhs.gov.

SUPPLEMENTARY INFORMATION:

I. Discussion of the Rule

On April 29, 2019 the Board for Correction of Military Records of the Coast Guard (BCMR) mailing address changed from 245 Murray Lane, Washington, DC 20528 to 2707 Martin Luther King Jr. Avenue SE, Stop 0485, Washington, DC 20528-0485. Through this technical amendment, the BCMR is making a corresponding change to the BCMR's mailing address in the Code of Federal Regulations (CFR) in 33 CFR 52.21(a). Section 52.21(a) provides the BCMR mailing address for submitting an application for correction of a Coast Guard record on DD Form 149 (Application for Correction of Military or Naval Record). The BCMR has already updated the mailing address on the DD Form 149 and the BCMR's website to reflect the change in address.

This rule is issued under the authority of 5 U.S.C. 552; 14 U.S.C. 501 and 503; and Department of Homeland Security Delegation Nos. 0160.1 and 0170.1.

II. Regulatory History

The Coast Guard did not publish a notice of proposed rulemaking for this rule. Under Title 5 of the United States Code (U.S.C.), Section 553(b)(A), this final rule is exempt from notice and public comment rulemaking requirements because the change involves rules of agency organization, procedure, or practice. In addition, under 5 U.S.C. 553(b)(B), an agency may waive the notice and comment requirements if it finds, for good cause, that notice and comment is impracticable, unnecessary, or contrary to the public interest. The Coast Guard finds that notice and comment is unnecessary under 5 U.S.C. 553(b)(B) because the mailing address change is an agency procedural correction that will have no substantive effect on the public. For the same reasons, the Coast Guard finds that good cause exists under 5 U.S.C. 553(d) for making this final rule effective immediately upon publication.

III. Regulatory Analyses

The Coast Guard developed this rule after considering numerous statutes and executive orders related to rulemaking. Below are summarized analyses based on these statutes or executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See the OMB Memorandum titled “Guidance Implementing Executive Order 13771, titled `Reducing Regulation and Controlling Regulatory Costs'” (April 5, 2017). This rule involves non-substantive changes and internal agency practices and procedures; it will not impose any additional costs on the public. The benefit of the non-substantive change that updates a mailing address is increased clarity and accuracy of regulations for the public.

B. Small Entities

Under the Regulatory Flexibility Act, 5 U.S.C. 601-612, the Coast Guard has considered whether this rule would have a significant economic impact on a substantial number of small entities. The term “small entities” comprises small businesses, not-for-profit organizations that are independently owned and operated and are not dominant in their fields, and governmental jurisdictions with populations of less than 50,000.

This rule is not preceded by a notice of proposed rulemaking. Therefore, it is exempt from the requirements of the Regulatory Flexibility Act (5 U.S.C. 601-612). The Regulatory Flexibility Act does not apply when notice and comment rulemaking is not required. This rule consists of a technical amendment to a mailing address and does not have any substantive effect on the regulated industry or small businesses.

C. Assistance for Small Entities

Under section 213(a) of the Small Business Regulatory Enforcement Fairness Act of 1996, Public Law 104-121, the Coast Guard offers to assist small entities in understanding this rule so that they can better evaluate its effects on them and participate in the rulemaking. The Coast Guard will not retaliate against small entities that question or complain about this rule or any policy or action of the Coast Guard.

D. Collection of Information

This rule calls for no new collection of information under the Paperwork Reduction Act of 1995, 44 U.S.C. 3501-3520.

E. Federalism

A rule has implications for federalism under Executive Order 13132 (Federalism) if it has a substantial direct effect on States, on the relationship between the national government and the States, or on the distribution of power and responsibilities among the various levels of government. The Coast Guard has analyzed this rule under Executive Order 13132 and has determined that it is consistent with the fundamental federalism principles and preemption requirements described in Executive Order 13132.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Although this rule will not result in such expenditure, the Coast Guard does discuss the effects of this rule elsewhere in this preamble.

G. Taking of Private Property

This rule will not cause a taking of private property or otherwise have taking implications under Executive Order 12630 (Governmental Actions and Interference with Constitutionally Protected Property Rights).

H. Civil Justice Reform

This rule meets applicable standards in sections 3(a) and 3(b)(2) of Executive Order 12988 (Civil Justice Reform) to minimize litigation, eliminate ambiguity, and reduce burden.

I. Protection of Children

The Coast Guard has analyzed this rule under Executive Order 13045 (Protection of Children from Environmental Health Risks and Safety Risks). This rule is not an economically significant rule and would not create an environmental risk to health or risk to safety that might disproportionately affect children.

J. Indian Tribal Governments

This rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

The Coast Guard has analyzed this rule under Executive Order 13211 (Actions Concerning Regulations That Significantly Affect Energy Supply, Distribution, or Use). It is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, the Coast Guard did not consider the use of voluntary consensus standards.

M. Environment

The Coast Guard has analyzed this rule under Department of Homeland Security Instruction Manual 023-01-001-01, Rev. 1, and U.S. Coast Guard Environmental Planning Policy (COMDTINST 5090.1), which guide the Coast Guard in complying with the National Environmental Policy Act of 1969 (42 U.S.C. 4321-4370f), and concluded that this action is one of a category of actions that do not individually or cumulatively have a significant effect on the human environment. A final Record of Environmental Consideration supporting this determination is available in the docket where indicated in the ADDRESSES section of this preamble. This final rule involves a non-substantive technical amendment that updates a mailing address in existing Coast Guard regulations. Therefore, this rule is categorically excluded under paragraphs A3 and L54 in Appendix A, Table 1, of DHS Instruction Manual 023-01-001-01, Rev. 1. Paragraphs A3 and L54 pertain to regulations which are editorial or procedural.

List of Subjects in 33 CFR Part 52

Administrative practice and procedure, Archives and records, Military personnel.

For the reason stated in the preamble, the Coast Guard amends 33 CFR part 52 as follows:

PART 52—BOARD FOR CORRECTION OF MILITARY RECORDS OF THE COAST GUARD

1. Revise the authority citation for part 52 to read as follows:

Authority: 10 U.S.C. 1552; 14 U.S.C. 501, 633; Department of Homeland Security Delegations No. 0160.1(II)(B)(1), 0170.1(II)(23).

§ 52.21 [Amended]

2. In § 52.21(a), remove the text, “Mailstop 485, 245 Murray Lane, Washington, DC 20528” and add, in its place, the text “2707 Martin Luther King Jr. Avenue SE, Stop 0485, Washington, DC 20528-0485”.

Dated: December 10, 2019.
M.W. Mumbach,
Chief, Office of Regulations and Administrative Law, U.S. Coast Guard.

[FR Doc. 2019-26996 Filed 12-13-19; 8:45 am]

BILLING CODE 9110-04-P